DEPARTMENT OF TRANSPORTATION

Federal Aviation Administration

14 CFR Part 39

[Docket No. FAA-2014-0464; Directorate Identifier 2014-SW-002-AD]

RIN 2120-AA64

Airworthiness Directives; Airbus Helicopters (Previously Eurocopter France) Helicopters

AGENCY: Federal Aviation Administration (FAA), DOT.

ACTION: Notice of proposed rulemaking (NPRM).

SUMMARY: We propose to supersede airworthiness directive (AD) 2013-18-01 for Eurocopter France Model EC 155B, EC155B1, SA-365N, SA-365N1, AS-365N2, AS-365-N3, and SA-366G1 helicopters. AD 2013-18-01 currently requires inspecting the collective pitch lever for correct locking and unlocking conditions. As published, AD 2013-18-01 contains certain errors. This proposed AD would retain the requirements of AD 2013-18-01, correct these errors, and update the type certificate holder's name. The proposed actions are intended to detect an incorrectly adjusted collective pitch lever, which could result in loss of control of the helicopter.

DATES: We must receive comments on this proposed AD by September 15, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the service information at the FAA, Office of the Regional Counsel, Southwest Region, 2601 Meacham Blvd., Room 663, Fort Worth, Texas 76137.

FOR FURTHER INFORMATION CONTACT: Matt Wilbanks, Aviation Safety Engineer, Rotorcraft Certification Office, Rotorcraft Directorate, FAA, 2601 Meacham Blvd., Fort Worth, Texas 76137; telephone (817) 222-5110; email matt.wilbanks@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On August 21, 2013, we issued AD 2013-18-01, amendment 39-17574 (78 FR 56599, September 13, 2013) for Eurocopter France Model EC 155B, EC155B1, SA-365N, SA-365N1, AS-365N2, AS 365 N3, and SA-366G1 helicopters, except helicopters with modification (MOD) 0767B5 installed. AD 2013-18-01 requires inspecting the collective pitch lever for correct unlocking with a spring scale, and if required, adjusting the collective pitch lever restraining tab and, for certain models, adjusting the collective link rods. AD 2013-18-01 also requires inspecting the collective pitch lever for the risk of inadvertent locking by measuring the clearance between the locking pin of the collective pitch lever and the L-section of the restraining tab, and if required, modifying the tab with a slight bend to the tab.

AD 2013-18-01 was prompted by AD No. 2011-0154, dated August 22, 2011, issued by EASA, which is the Technical Agent for the Member States of the European Union. EASA issued AD 2011-0154 to correct an unsafe condition for Eurocopter Model EC 155B, EC155B1, SA-365N, SA-365N1, AS-365N2, AS 365 N3, and SA-366G1 helicopters. EASA advises that two occurrences have been reported of inadvertent locking and unlocking of the collective pitch lever. One inadvertent collective pitch lever locking occurred when moving the collective pitch lever to the low-pitch position, and one inadvertent collective pitch lever unlocking occurred during engine start. To address this unsafe condition, Eurocopter issued AS 365 Alert Telex No. 67.00.10, SA 366 Alert Telex No. 67.05, and EC 155 Alert Telex No. 67A007, which describe procedures to inspect the collective pitch lever for correct locking and unlocking conditions. This inspection was mandated by Direction Générale de l'Aviation Civile (DGAC) France AD No. F-2005-127, dated July 20, 2005. DGAC subsequently revised its AD, No. F-2005-127 R1, dated February 1, 2006 (DGAC AD F-2005-127 R1), after Eurocopter issued Alert Service Bulletins containing the same inspection procedures and bearing the same numbers as the Alert Telexes. Since the issuance of DGAC AD F-2005-127 R1 Eurocopter developed an assembly comprised of a blade, a hinge, and a return spring to replace the flexible collective lever locking blade as terminating action for the inspection required by the AD. EASA then issued AD No. 2011-0154, which superseded DGAC AD F-2005-127 R1, retaining the inspection procedures for the collective pitch lever and removing from the applicability helicopters with the hinged, spring-loaded collective lever locking blade installed, designated as MOD 0767B65.

As published, the AD number after the amendatory language section of AD 2013-18-01 is incorrect. The AD number was published as “2013-18-11.” The MOD number in paragraph (a), Applicability, of the AD is incorrect. The correct MOD number is 0767B65. Also, since we issued AD 2013-18-01, the type certificate holder's name for the affected models has changed from Eurocopter France to Airbus Helicopters. No other part of the regulatory information would be changed.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

We reviewed Eurocopter (now Airbus Helicopters) Alert Service Bulletin (ASB) No. 67.00.10 for Model AS365 helicopters, ASB No. 67.05 for Model SA366 helicopters, and ASB No. 67A007 for Model EC155 helicopters. All three ASBs are Revision 1 and are dated February 25, 2009. These ASBs describe procedures for inspecting and adjusting the collective pitch lever for correct locking and unlocking conditions.

Eurocopter has also issued ASB No. 67.00.12, Revision 0, dated February 25, 2009, for Model AS365 helicopters; ASB No. 67.07, Revision 0, dated February 25, 2009, for Model AS366 helicopters; and ASB No. 67-009, Revision 1, dated July 19, 2010, for Model EC 155 helicopters. These ASBs contain the procedures for MOD 0767B65.

Proposed AD Requirements

This proposed AD would retain all of the inspection and adjustment requirements of AD 2013-18-01. It would also would correct the AD number after the amendatory language, correct the MOD number in paragraph (a), and reflect the current type certificate holder's name and contact information.

Costs of Compliance

We estimate that this proposed AD would affect 32 helicopters of U.S. Registry. We estimate that operators may incur the following costs in order to comply with this proposed AD. Inspecting and adjusting the collective pitch lever would require about 1 work hour at an average labor rate of $85 per hour, for a total cost per helicopter of $85 and a cost to U.S. operators of $2,720.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2013-18-01, Amendment 39-17574 (78 FR 56599, September 13, 2013), and adding the following new AD:

Airbus Helicopters (Previously Eurocopter France): Docket No. FAA-2014-0464; Directorate Identifier 2014-SW-002-AD.

(a) Applicability

This AD applies to Model EC 155B, EC155B1, SA-365N, SA-365N1, AS-365N2, AS 365 N3, and SA-366G1 helicopters, except helicopters with modification (MOD) 0767B65 installed, certificated in any category.

(b) Unsafe Condition

This AD defines the unsafe condition as inadvertent locking and unlocking of the collective pitch lever, which could result in subsequent loss of control of the helicopter.

(c) Affected AD

This AD supersedes AD 2013-18-01, Amendment 39-17574 (78 FR 56599, September 13, 2013).

(d) Comments Due Date

We must receive comments by September 15, 2014.

(e) Compliance

You are responsible for performing each action required by this AD within the specified compliance time unless it has already been accomplished prior to that time.

(f) Required Actions

Within 50 hours time-in-service:

(1) For Model EC155B and EC155B1 helicopters:

(i) Lock the collective pitch lever, and using a spring scale, measure the load (G) required to unlock the pilot's collective pitch lever as depicted in Figure 1, Detail B of Eurocopter Alert Service Bulletin (ASB) No. 67A007, Revision 1, dated February 25, 2009 (ASB 67A007).

(ii) If the collective pitch lever unlocks at a load less than 11 deca Newtons (daN) (24.7 lbs) or greater than 14 daN (31.5 lbs), before further flight, adjust the collective pitch lever restraining tab (F) using the oblong holes.

(iii) Set the collective pitch lever to the “low pitch” position and hold it in this position, without forcing it downwards.

(iv) Measure the clearance (J1) between the locking pin of the collective pitch lever (C) and the L-section of the restraining tab (F) as depicted in Figure 1, Detail A of ASB 67A007.

(v) If the clearance between the locking pin of the collective pitch lever and the L-section of the restraining tab is less than 3 millimeters (mm), before further flight, remove the restraining tab, clamp the restraining tab (F) in a vice with soft jaws, and gradually apply a load (H) to ensure a clearance of 3 mm or more, as depicted in Figure 1, Detail K of ASB 67A007.

(2) For Model SA-365N, SA-365N1, AS-365N2, and AS 365 N3 helicopters:

(i) Completely loosen the friction, lock the collective pitch lever, and using a spring scale, measure the load (G) required to unlock the pilot's collective pitch lever as depicted in Figure 1, Detail B of Eurocopter ASB No. 67.00.10, Revision 1, dated February 25, 2009 (ASB 67.00.10).

(ii) If the collective pitch lever unlocks at a load less than 5 daN (11.3 lbs) or greater than 14 daN (31.5 lbs), before further flight, adjust the collective pitch lever restraining tab (F) using the oblong holes and adjust the collective link rods as described in the Accomplishment Instructions, paragraph 2.B.4., of ASB 67.00.10.

(iii) Set the collective pitch lever to the “low pitch” position and hold it in this position, without forcing it downwards.

(iv) Tighten the friction lock and measure the clearance (J1) between the locking pin of the collective pitch lever (C) and the L-section of the restraining tab (F) as depicted in Figure 1, Detail A of ASB 67.00.10.

(v) If the clearance between the locking pin of the collective pitch lever and the L-section of the restraining tab is less than 3 mm, before further flight, remove the restraining tab, clamp the restraining tab (F) in a vice with soft jaws, and gradually apply a load (H) to ensure a clearance of 3 mm or more, as depicted in Figure 1, Detail K, of ASB 67.00.10.

(3) For Model SA-366G1 helicopters:

(i) Completely loosen the friction, lock the collective pitch lever, and using a spring scale, measure the load (G) required to unlock the pilot's collective pitch lever as depicted in Figure 1, Detail B of Eurocopter ASB No. 67.05, Revision 1, dated February 25, 2009 (ASB 67.05).

(ii) If the collective pitch lever unlocks at a load less than 5 daN (11.3 lbs) or greater than 14 daN (31.5 lbs), before further flight, adjust the collective pitch lever restraining tab (F) using the oblong holes and adjust the collective link rods as described in the Accomplishment Instructions, paragraph 2.B.4., of ASB 67.05.

(iii) Set the collective pitch lever to the “low pitch” position and hold it in this position, without forcing it downwards.

(iv) Tighten the friction lock and measure the clearance (J1) between the locking pin of the collective pitch lever (C) and the L-section of the restraining tab (F) as depicted in Figure 1, Detail A, of ASB 67.05.

(v) If the clearance between the locking pin of the collective pitch lever and the L-section of the restraining tab is less than 3 mm, before further flight, remove the restraining tab, clamp the restraining tab (F) in a vice with soft jaws, and gradually apply a load (H) to ensure a clearance of 3 mm or more, as depicted in Figure 1, Detail K, of ASB 67.05.

(g) Alternative Methods of Compliance (AMOCs)

(1) The Manager, Safety Management Group, FAA, may approve AMOCs for this AD. Send your proposal to: Matt Wilbanks, Aviation Safety Engineer, Rotorcraft Certification Office, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Alert Service Bulletin (ASB) No. 67.00.12, Revision 0, dated February 25, 2009; ASB No. 67.07, Revision 0, dated February 25, 2009; and ASB No. 67-009, Revision 1, dated July 19, 2010, which are not incorporated by reference, contain additional information about this AD. For service information identified in this AD, contact Airbus Helicopters, Inc., 2701 N. Forum Drive, Grand Prairie, TX 75052; telephone (972) 641-0000 or (800) 232-0323; fax (972) 641-3775; or at http://www.airbushelicopters.com/techpub. You may review a copy of the service information at the FAA, Office of the Regional Counsel, Southwest Region, 2601 Meacham Blvd., Room 663, Fort Worth, Texas 76137.

(2) The subject of this AD is addressed in European Aviation Safety Agency (EASA) AD No. 2011-0154, dated August 22, 2011. You may view the EASA AD in the AD Docket on the internet at http://www.regulations.gov.

(i) Subject

Joint Aircraft Service Component (JASC) Code: 6710: Main Rotor Control.

Issued in Fort Worth, Texas, on July 8, 2014.
Kim Smith,
Directorate Manager, Rotorcraft Directorate, Aircraft Certification Service.

[FR Doc. 2014-16682 Filed 7-15-14; 8:45 am]

BILLING CODE 4910-13-P